NATIONAL SCIENCE FOUNDATION

Proposal Review Panel for International Science and Engineering; Notice of Meeting

In accordance with the Federal Advisory Committee Act (Pub., L. 92-463, as amended), the National Science Foundation (NSF) announces the following meeting:

Name and Committee Code: Proposal Review Panel for International Science and Engineering—PIRE ” DUST stimulated drawn-down of atmospheric CO2 as a trigger for Northern Hemisphere Glaciation” Site Visit (#10749).

Date and Time:

October 15, 2018, 8:00 a.m.-8:30 p.m.

October 16, 2018, 8:00 a.m.-1:30 p.m.

Place: University of Rochester River Campus, Hutchison Hall, Room 229, Hutchison Road, Rochester, NY 14620.

Type of Meeting: Part Open.

Contact Person: Charles Estabrook, PIRE Program Manager, National Science Foundation, 2415 Eisenhower Avenue, Alexandria, Virginia 22314; Telephone 703/292-7222.

Purpose of Meeting: NSF site visit to conduct a review during year 2 of the five-year award period. To conduct an in-depth evaluation of performance, to assess progress towards goals, and to provide recommendations.

Agenda: See attached.

Reason for Closing: Topics to be discussed and evaluated during closed portions of the site review will include information of a proprietary or confidential nature, including technical information; and information on personnel. These matters are exempt under 5 U.S.C.552b(c), (4) and (6) of the Government in the Sunshine Act.

Dated: September 12, 2018.
Crystal Robinson,
Committee Management Officer.

PIRE Site Visit Agenda—Garzione—University of Rochester

Day 1

8:00 a.m.-10:00 a.m. Introductions

PIRE Rationale and Goals

Administration, Management, and Budget Plans

10:00 a.m.-10:20 a.m. NSF Executive Session/Break (CLOSED)

10:20 a.m.-Noon Research Accomplishments and Impacts to date

Facilities and Physical Infrastructure

Noon-12:30 p.m. NSF Executive Session (CLOSED)

12:30 p.m.-1:30 p.m. Lunch—Discussion with Students (CLOSED)

1:30 p.m.-3:00 p.m. Integrating Research and Education

Program Assessment and Improvement Based on Feedback

Integrating diversity and fostering cross-cultural and interdisciplinary collaborations

3:00 p.m.-3:30 p.m. NSF Executive Session/Break (CLOSED)

3:30 p.m.-4:15 p.m. International Partnerships

4:15 p.m.-5:15 p.m. Wrap up

5:15 p.m.-6:15 p.m. Executive Session/Break-Develop issues for clarification (CLOSED)

6:15 p.m.-6:30 p.m. Critical Feedback Provided to PI (CLOSED)

6:30 p.m.-8:30 p.m. NSF Executive Session/Working Dinner (CLOSED)

Day 2

8:00 a.m.-9:00 a.m. Summary/Proposing Team Response to Critical Feedback (CLOSED)

9:00 a.m.-10:00 a.m. Institutional Support

10:00 a.m.-1:00 p.m. Site Review Team Prepares Site Visit Report (CLOSED)

(Working Lunch Provided)

1:00 p.m.-1:30 p.m. Presentation of Site Visit Report to Principal Investigator (CLOSED)

[FR Doc. 2018-20155 Filed 9-14-18; 8:45 am]

BILLING CODE 7555-01-P